DEPARTMENT OF ENERGY

Federal Energy Regulatory Commission

[Project No. 2047-049]

Erie Boulevard Hydropower, L.P.; Notice of Availability of Environmental Assessment

In accordance with the National Environmental Policy Act of 1969 and the Federal Energy Regulatory Commission's (Commission or FERC) regulations, 18 CFR Part 380, Commission staff has reviewed the application for amendment of license for the Stewarts Bridge Project (FERC No. 2047) and has prepared an environmental assessment (EA). The project is located on the Sacandaga River in Saratoga County, New York.

The EA contains the Commission staff's analysis of the potential environmental effects of the proposed addition of new generating capacity and concludes that authorizing the amendment, with appropriate environmental protective measures would not constitute a major Federal action that would significantly affect the quality of the human environment.

A copy of the EA is available for review at the Commission in the Public Reference Room or may be viewed on the Commission's Web site at http://www.ferc.gov using the “eLibrary” link. Enter the docket number excluding the last three digits in the docket number field to access the document. For assistance, contact FERC Online Support at FERCOnlineSupport@ferc.gov or toll-free at (866) 208-3676, or for TTY contact (202) 502-8695.

Dated: July 26, 2011.
Nathaniel J. Davis, Sr.,
Deputy Secretary.

[FR Doc. 2011-19468 Filed 8-1-11; 8:45 am]

BILLING CODE 6717-01-P